DEPARTMENT OF STATE

[Public Notice 6594]

Bureau of Educational and Cultural Affairs; Office of Citizen Exchanges

Notice: Amendment to original Request for Grant Proposals (RFGP) (Congressionally Mandated—One-Time Grants Program—Competition B—Professional, Cultural and Youth One-Time Grants Program—Reference Number ECA/PE/C/09—One-time-Comp. B).

Summary: The United States Department of State, Bureau of Educational and Cultural Affairs, announces revisions to the original RFGP announced in the Federal Register on Thursday, April 16, 2009 (Federal Register Volume 74, Number 72):

(1) Due to an omission in the original RFGP, referenced above, Europe has been added as a Geographic Region and Italy has been added as the only eligible country in that Geographic Region, under the “Emerging Cultural Leaders Program.”

(2) The deadline for proposals targeting Italy under the “Emerging Cultural Leaders Program” has been extended to May 28, 2009.

(3) Proposals targeting Italy under the “Emerging Cultural Leaders Program” MUST only be submitted in hard-copy as outlined in IV.3f.1 “Submitting Printed Applications” section of the RFGP referenced above.

(4) The original proposal deadline of May 14, 2009 applies to all other proposals submitted under this competition. There are no exceptions, as stated in the original RFGP referenced above.

(5) All other terms and conditions of the original RFGP remain the same.

Additional Information

As stated in the original RFGP, interested organizations should contact Jill Staggs, Program Officer at 202-203-7500 or by e-mail at StaggsJJ@state.gov for additional information regarding the Emerging Cultural Leaders Program prior to the application deadline.

Dated: April 23, 2009.
C. Miller Crouch,
Acting Assistant Secretary for Educational and Cultural Affairs, Department of State.

[FR Doc. E9-9830 Filed 4-29-09; 8:45 am]

BILLING CODE 4710-11-P